FEDERAL COMMUNICATIONS COMMISSION

Radio Broadcasting Services; AM or FM Proposals to Change the Community of License

AGENCY: Federal Communications Commission.

ACTION: Notice.

SUMMARY: The following applicants filed AM or FM proposals to change the community of license: CALVARY CHAPEL OF TWIN FALLS, INC., Station KJCF, Facility ID 106475, BMPED-20080507ABB, From CLARKSTON, WA, To ASOTIN, WA; CAPSTAR TX LIMITED PARTNERSHIP, Station WIBA-FM, Facility ID 17385, BPH-20080508ABO, From MADISON, WI, To SAUK CITY, WI; CAPSTAR TX LIMITED PARTNERSHIP, Station WMAD, Facility ID 50055, BPH-20080508ABQ, From SAUK CITY, WI, To CROSS PLAINS, WI; GAP BROADCASTING POCATELLO LICENSE, LLC, Station KLLP, Facility ID 8413, BPH-20080429AAD, From CHUBBUCK, ID, To FILER, ID; HORIZON CHRISTIAN FELLOWSHIP, Station KWDU, Facility ID 166061, BMPH-20080506AAP, From UPTON, WY, To ANTELOPE VALLEY-CRES, WY; KZLZ, LLC, Station KZLZ, Facility ID 36022, BPH-20080423AES, From KEARNY, AZ, To CASAS ADOBES, AZ; MAGNUS, EDWARD F, Station NEW, Facility ID 165991, BMPH-20080519ABU, From WISHEK, ND, To LINTON, ND; PROVIDENCE EDUCATIONAL FOUNDATION, INC., Station NEW, Facility ID 171892, BMPED-20080428AAI, From AMITE, LA, To KENTWOOD, LA; SKYWEST MEDIA L.L.C., Station KXML, Facility ID 164259, BMPH-20080411AHN, From SALMON, ID, To BELLEVUE, ID; TALLGRASS BROADCASTING, LLC, Station NEW, Facility ID 171002, BMPH-20080409ACF, From PAWHUSKA, OK, To ELK CITY, KS; THE CROMWELL GROUP, INC. OF ILLINOIS, Station WEJT, Facility ID 65570, BPH-20080425AAU, From SHELBYVILLE, IL, To DALTON CITY, IL.

DATES: Comments may be filed through August 11, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E8-13009 Filed 6-9-08; 8:45 am]

BILLING CODE 6712-01-P